DEPARTMENT OF TRANSPORTATION

National Highway Traffic Safety Administration

[NHTSA-2009-0142]

Reports, Forms, and Recordkeeping Requirements Agency Information Collection Activity Under OMB Review

AGENCY: National Highway Traffic Safety Administration, US DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with the 60-day comment period was published on October 3, 2008. No comments were received in response.

DATES: Comments must be submitted on or before June 18, 2009.

FOR FURTHER INFORMATION CONTACT: Laurie Flaherty at the National Highway Traffic Safety Administration, Office of Emergency Medical Services

(NTI-140), 202-366-2705, 1200 New Jersey Ave., SE., Washington, DC 20590.

SUPPLEMENTARY INFORMATION: Title: E-911 Grant Program.

OMB Control Number: N/A.

Requested Expiration Date of Approval: Three years from the approval date.

Type of Request: New collection.

Affected Public: State Governments.

Form Number: N/A.

Abstract: The Ensuring Needed Help Arrives Near Callers Employing 911 (ENHANCE 911) Act of 2004 (Pub. L. 108-494, codified at 47 U.S.C. 942) authorizes a joint grant program between the National Highway Traffic Safety Administration (NHTSA) of the U.S. Department of Transportation and the National Telecommunications and Information Administration (NTIA) of the Department of Commerce to facilitate coordination among all parties involved in the organization of enhanced 911 (E-911) services.

The Act requires an applicant to certify to several conditions in its application in order to qualify for a grant. Specifically, an applicant must certify that (1) it has coordinated its application with the public safety answering points (PSAPs); (2) it has designated a single officer or governmental body to serve as the coordinator of implementation of E-911 services; (3) it has established a plan for the coordination of and implementation of E-911 services; (4) it has integrated telecommunications services involved in the implementation of E-911 services; and (5) no portion of any designated E-911 charges imposed by the State or other taxing jurisdiction within the State is being diverted for any other purpose during the period at least 180 days before the application date and continuing throughout the period of time for which grant funds are available. In addition, the Act requires grantees to match at least 50 percent from non-Federal sources.

The information collected for this grant program is to include an application consisting of a State 911 Plan, project budget information and certifications. This information is necessary to determine whether a State satisfies the criteria for a grant award. The agencies intend to use SF-424, which is an approved OMB form, as part of the application for the E-911 grant program. Accordingly, the agencies are not required to obtain OMB approval for the use of that form.

A State must also submit a State 911 Plan as part of its application. This plan must detail the projects and activities proposed to be funded for the implementation of Phase II E-911 services or migration to an IP-enabled emergency network, establish metrics and a timetable for grant implementation, and describe the steps that the State has taken to meet the grant criteria. It is important for the agencies to review each applicant's plan to confirm that the applicant has met certain statutory requirements—a plan for the coordination of and implementation of E-911 services, coordination of its application with PSAPs, involvement of integrated telecommunications services in the implementation of E-911 services, and priority funding to communities without 911 capability.

Estimated Total Annual Burden: 10,976.

Estimated Number of Respondents: 56 (50 States, District of Columbia, Puerto Rico, American Samoa, Guam, the Northern Mariana Islands, and the U.S. Virgin Islands).

ADDRESSES: Send comments, within 30 days, to the Office of Information and Regulatory Affairs, Office of Management and Budget, 725 17th St., NW., Washington, DC 20503. Attention NHTSA Desk Officer.

Comments are invited on: Whether the proposed collection of information is necessary for the proper performance of the functions of the agencies, including whether the information will have practical utility; the accuracy of the agencies' estimate of the burden of the proposed information collection; ways to enhance the quality, utility and clarity of the information to be collected; and ways to minimize the burden of the collection of information on respondents, including the use of automated collection techniques or other forms of information technology.

Issued in Washington, DC, on May 14, 2009.
Jeffrey P. Michael,
Associate Administrator for Research and Program Development.

[FR Doc. E9-11658 Filed 5-18-09; 8:45 am]

BILLING CODE 4910-59-P